DEPARTMENT OF THE TREASURY

Internal Revenue Service

26 CFR Part 1

[REG-208280-86; REG-136311-01]

RIN 1545-AJ57; RIN 1545-BB30

Exclusions From Gross Income of Foreign Corporations; Correction

AGENCY: Internal Revenue Service (IRS), Treasury.

ACTION: Corrections to notice of proposed rulemaking and notice of public hearing.

SUMMARY: This document contains corrections to a notice of proposed rulemaking and notice of public hearing that was published in the Federal Register on Friday, August 2, 2002 (67 FR 50510), relating to exclusions from gross income of foreign corporations.

FOR FURTHER INFORMATION CONTACT: Patricia Bray (202) 622-3880 (not a toll-free number).

SUPPLEMENTARY INFORMATION:

Background

The notice of proposed rulemaking and notice of public hearing that is subject to these corrections is under section 883 of the Internal Revenue Code.

Need for Correction

As published the notice of proposed rulemaking and notice of public hearing contains errors that may prove to be misleading and are in need of clarification.

Correction of Publication

Accordingly, the publication of the notice of proposed rulemaking and notice of public hearing (REG-208280-86; REG-136311-01), which was the subject of FR Doc. 02-19127, is corrected as follows:

1. On page 50510, column 1, line 5 of the heading, the numbers “RIN 1545-AJ57; RIN 1545-BA07” is corrected to read “RIN 1545-AJ57; RIN 1545-BB30”.

2. On page 50512, column 2, in the preamble under the paragraph heading “ii. Space or slot charters.”, first full paragraph, line 8 from the bottom of the paragraph, the language “is incidental to the operation ships or” is corrected to read “is incidental to the operation of ships or”.

3. On page 50515, column 3, in the preamble under the heading “C. Comments Relating to § 1.883-2: Treatment of Publicly-Traded Corporations”, second paragraph, line 2 from the bottom of the paragraph, the language “aggregate 50 percent of more of the” is corrected to read aggregate 50 percent or more of the”.

4. On page 50518, column 2, in the preamble under the paragraph heading “3. Certain limitation on benefits article restrictions in income tax conventions applied to shareholders.”, line 3 from the top of the column, the language “limitation of benefits article of the treaty” is corrected to read “limitation on benefits article of the treaty”.

§ 1.883-1 [Corrected]

5. On page 50521, column 2, § 1.883-1(c)(3)(ii), line 6, the language “under § 1.883-2(f), 1.882-3(d) or 1.883-” is corrected to read “under §§ 1.883-2(f), 1.883-3(d) or 1.883-”.

6. On page 50525, column 2, § 1.883-1(h)(2), lines 5, 6 and 7, from the top of the column, the language “each category of income listed in (i) through (viii) of this section paragraph (h)(2)” is corrected to read “each category of income listed in paragraphs (h)(2)(i) through (viii) of this section”.

§ 1.883-2 [Corrected]

7. On page 50528, column 2, § 1.883-2(f)(2), line 3, the language “that the stock is listed;” is corrected to read “the stock is listed;”.

§ 1.883-4 [Corrected]

8. On page 50533, column 1, § 1.883-4(d)(3)(ii), lines 3 and 4, the language requirements of paragraphs (d)(3)(ii)(A) and (B) are satisfied. If the widely-held” is corrected to read “requirements of paragraphs (d)(3)(ii)(A) and (B) of this section are satisfied. If the widely-held”.

9. On page 50534, column 2, § 1.883-4(d)(4)(iii)(B), line 3, the language “that the stock is listed;” is corrected to read “the stock is listed;”.

10. On page 50534, column 3, § 1.883-4(d)(4)(iv)(B), line 3, the language “this section (as if it the language applied” is corrected to read “this section (as if the language applied”.

Cynthia E. Grigsby,
Chief, Regulations Unit, Associate Chief Counsel, (Income Tax & Accounting).

[FR Doc. 02-23497 Filed 9-13-02; 8:45 am]

BILLING CODE 4830-01-P